SMALL BUSINESS ADMINISTRATION

[Disaster Declaration #16041 and #16042; OKLAHOMA Disaster Number OK-00132]

Presidential Declaration Amendment of a Major Disaster for Public Assistance Only for the State of Oklahoma

AGENCY: U.S. Small Business Administration.

ACTION: Amendment 1.

SUMMARY: This is an amendment of the Presidential declaration of a major disaster for Public Assistance Only for the State of Oklahoma (FEMA-4438-DR), dated 07/16/2019.

Incident: Severe Storms, Straight-line Winds, Tornadoes, and Flooding.

Incident Period: 05/07/2019 through 06/09/2019.

DATES: Issued on 07/16/2019.

Physical Loan Application Deadline Date: 09/16/2019.

Economic Injury (EIDL) Loan Application Deadline Date: 04/16/2020.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW, Suite 6050, Washington, DC 20416 (202) 205-6734.

SUPPLEMENTARY INFORMATION: The notice of the President's major disaster declaration for Private Non-Profit organizations in the State of Oklahoma, dated 07/16/2019, is hereby amended to include the following areas as adversely affected by the disaster.

Primary Counties: Caddo, Kay, Kiowa, Woodward.

All other information in the original declaration remains unchanged.

(Catalog of Federal Domestic Assistance Number 59008)

Rafaela Monchek,
Acting Associate Administrator for Disaster Assistance.

[FR Doc. 2019-17090 Filed 8-8-19; 8:45 am]

BILLING CODE 8026-03-P